DEPARTMENT OF COMMERCE

National Oceanic and Atmospheric Administration

RIN 0648-XA063

Takes of Marine Mammals Incidental to Specified Activities; Columbia River Crossing Project, Washington and Oregon

AGENCY: National Marine Fisheries Service (NMFS), National Oceanic and Atmospheric Administration (NOAA), Commerce.

ACTION: Notice; receipt of application for letter of authorization; request for comments and information.

SUMMARY: NMFS has received a request from the Department of Transportation's Federal Transit Authority (FTA) and Federal Highway Administration (FHWA), on behalf of the Columbia River Crossing project (CRC), for authorization to take marine mammals incidental to bridge construction and demolition activities at the Columbia River and North Portland Harbor, Washington and Oregon, over the course of five years; approximately July 2013 through June 2018. Pursuant to regulations implementing the Marine Mammal Protection Act (MMPA), NMFS is announcing receipt of CRC's request for the development and implementation of regulations governing the incidental taking of marine mammals and inviting information, suggestions, and comments on CRC's application and request.

DATES: Comments and information must be received no later than January 14, 2011.

ADDRESSES: Comments on the application should be addressed to P. Michael Payne, Chief, Permits, Conservation and Education Division, Office of Protected Resources, National Marine Fisheries Service, 1315 East-West Highway, Silver Spring, MD 20910-3225. The mailbox address for providing e-mail comments is ITP.Laws@noaa.gov. Comments sent via e-mail, including all attachments, must not exceed a 10-megabyte file size.

FOR FURTHER INFORMATION CONTACT: Ben Laws, Office of Protected Resources, NMFS, (301) 713-2289.

SUPPLEMENTARY INFORMATION:

Availability

A copy of CRC's application may be obtained by writing to the address specified above (see ADDRESSES), telephoning the contact listed above (see FOR FURTHER INFORMATION CONTACT), or visiting the Internet at: http://www.nmfs.noaa.gov/pr/permits/incidental.htm#applications.

Background

Sections 101(a)(5)(A) and (D) of the MMPA (16 U.S.C. 1361 et seq.) direct the Secretary of Commerce (Secretary) to allow, upon request, the incidental, but not intentional taking of small numbers of marine mammals by U.S. citizens who engage in a specified activity (other than commercial fishing) if certain findings are made and regulations are issued or, if the taking is limited to harassment, notice of a proposed authorization is provided to the public for review.

Authorization for incidental takings may be granted if NMFS finds that the taking will have a negligible impact on the species or stock(s) and will not have an unmitigable adverse impact on the availability of the species or stock(s) for certain subsistence uses, and if the permissible methods of taking and requirements pertaining to the mitigation, monitoring and reporting of such taking are set forth.

NMFS has defined “negligible impact” in 50 CFR 216.103 as “an impact resulting from the specified activity that cannot be reasonably expected to, and is not reasonably likely to, adversely affect the species or stock through effects on annual rates of recruitment or survival.” Except with respect to certain activities not pertinent here, the MMPA defines “harassment” as:

Any act of pursuit, torment, or annoyance which (i) has the potential to injure a marine mammal or marine mammal stock in the wild [Level A harassment]; or (ii) has the potential to disturb a marine mammal or marine mammal stock in the wild by causing disruption of behavioral patterns, including, but not limited to, migration, breathing, nursing, breeding, feeding, or sheltering [Level B harassment].

Summary of Request

On November 22, 2010, NMFS received a complete application from CRC requesting authorization for take of three species of marine mammals incidental to construction and demolition activities in the Columbia River and North Portland Harbor, Washington and Oregon. Portions of the project are anticipated to potentially last until March 2021; CRC has requested regulations to be effective for the period of five years from approximately July 2013 through June 2018. Marine mammals would be exposed to various operations, including noise from pile driving, demolition of existing structures, and the presence of construction-related vessels. Because the specified activities have the potential to take marine mammals present within the action area, CRC requests authorization to take, by Level B harassment, Steller sea lions (Eumetopias jubatus), California sea lions (Zalophus californianus), and harbor seals (Phoca vitulina).

Specified Activities

CRC is proposing a multimodal transportation project along a 5-mile section of the I-5 corridor connecting Vancouver, Washington and Portland, Oregon, including the following activities:

• Replacement of the existing Columbia River bridges with two new structures;

• Widening of the existing North Portland Harbor Bridge, and construction of three new structures across the harbor; and

• Demolition of existing Columbia River bridges.

In summary, the new Columbia River crossing will carry traffic on two separate pier-supported bridges and will include a new light rail transit (LRT) line and improved bicycle/pedestrian facilities, using a stacked alignment to reduce the number of in-water piers in the Columbia River by approximately one-third. CRC proposes six in-water pier complexes for a total of 12 piers for the Columbia River bridges.

CRC proposes to widen the existing I-5 southbound bridge over North Portland Harbor, and will add three new bridges adjacent to the existing bridges. Starting from the east, these structures will carry:

• A three-lane northbound collector-distributor (CD) ramp carrying local traffic;

• Northbound and southbound I-5 on the widened existing bridge across the North Portland Harbor;

• A southbound CD ramp carrying local traffic; and

• LRT combined with a bicycle/pedestrian path.

Each bridge will have four or five in-water bents, consisting of one to three drilled shafts. The permanent in-water piers of both the Columbia River and North Portland Harbor crossings will be constructed using drilled shafts, rather than impact-driven piles. However, the project will include numerous temporary in-water structures to support equipment and materials during the course of construction which may require the use of temporary impact-driven piles. These structures will include work platforms, work bridges, and tower cranes.

The existing Columbia River bridges will be demolished after the new Columbia River bridges have been constructed and after associated interchanges are operating. The existing Columbia River bridges will be demolished in two stages: (1) Superstructure demolition and (2) substructure demolition. In-water demolition will be accomplished either within cofferdams or with the use of diamond wire/wire saw. A full description of the activities proposed by CRC is described in the application.

Information Solicited

Interested persons may submit information, suggestions, and comments concerning CRC's request (see ADDRESSES). All information, suggestions, and comments related to CRC's request and NMFS' potential development and implementation of regulations governing the incidental taking of marine mammals by CRC will be considered by NMFS in developing, if appropriate, regulations governing the issuance of letters of authorization.

Dated: December 9, 2010.
James H. Lecky,
Director, Office of Protected Resources, National Marine Fisheries Service.

[FR Doc. 2010-31528 Filed 12-14-10; 8:45 am]

BILLING CODE 3510-22-P